GENERAL SERVICES ADMINISTRATION

Privacy Act of 1974; Proposed Privacy Act System of Records

AGENCY: General Services Administration.

ACTION: Notice of a system of records subject to the Privacy Act of 1974.

SUMMARY: The General Services Administration (GSA) is providing notice of the establishment of the Federal Acquisition Institute's FAI Online University (GSA/OAP-5) system of records. The purpose of the system is to develop a professional acquisition workforce by providing online training on Federal government acquisition and procurement to interested public and private individuals. The system is used to maintain and track the individuals' training records, provide course information, and administer the system. The system's online training provides a more flexible alternative to traditional classroom training.

DATES: This privacy notification for the FAI Online University system will become effective on June 19, 2006, unless comments received on or before that date result in a contrary determination.

ADDRESSES: Comments should be sent to Director, Federal Acquisition Institute, c/o Defense Acquisition University, 9820 Belvoir Road, Fort Belvoir VA 22060-5565.

FOR FURTHER INFORMATION CONTACT GSA Privacy Act Officer (CIB), General Services Administration, 1800 F Street, NW, Washington DC 20405; telephone (202) 501-1452.

Dated: May 3, 2006.
June V. Huber,
Director, Office of Information Management.

GSA/OAP-5

System name: Federal Acquisition Institute (FAI) Online University.

System location: The system is managed by the Federal Acquisition Institute, located at 9820 Belvoir Road, Fort Belvoir VA 22060-5565. Contact the system manager for additional information.

Categories of individuals covered by the system: Individuals, public or private, who use the FAI Online University resources and who register for or take the online courses.

Categories of Records in the System: The system maintains a record of an individual and his/her course progress while attending online courses. Required information consists of name and e-mail. Additional information is voluntarily provided and may include:

a. Contact data (home or business address including city, state, zip code, and country; and home or business telephone and fax number).

b. Work related information, including affiliated organization, business telephone, business fax number, and manager’s e-mail.

c. Training records, including course type selection, course progress, and course start/completion dates.

Authorities for maintenance of the system: 40 U.S.C. Chapters 5, 31, and 33; Title 5 U.S.C. 4101, et. seq.; E.O. 11348, as amended; E.O. 13111; and the Federal Procurement Policy Act (P.L. 93-400, as amended).

Purpose: To maintain a system for providing acquisition and procurement training in order to promote the development of a professional Federal acquisition workforce, ensure availability of exceptional training, and improve Federal acquisition workforce management.

Routine uses of the system records, including categories of users and their purpose for using the system:

System information may be accessed and used by authorized FAI employees, System Administrators, and contractors in the conduct of their official duties associated with tracking and administering training record and for system management purposes. In addition, information from this system may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of a civil or criminal law or regulation.

c. To duly authorized officials engaged in investigating or settling a grievance, complaint, or appeal filed by an individual who is the subject of the record.

d. To the Office of Personnel Management (OPM) and the Government Accountability Office (GAO) when the information is required for evaluation of the program.

e. To a Member of Congress or his or her staff on behalf of and at the request of the individual who is the subject of the record.

f. To an expert, consultant, or contractor of GSA in the performance of a Federal duty to which the information is relevant.

g. To the National Archives and Records Administration (NARA) for records management purposes.

Policies and practices for storing, retrieving, accessing, retaining, and disposing of system records:

Storage: Information is electronically collected and stored on hard drives.

Retrievability: Records are retrievable by name.

Safeguards: System records are safeguarded in accordance with the requirements of the Privacy Act and the Computer Security Act. Technical, administrative, and personnel security measures are implemented to ensure confidentiality and integrity of the system data that is stored, processed, and transmitted. Records are protected by passwords and other appropriate security measures.

Retention and disposal: Disposition of records is according to the National Archives and Records Administration (NARA) guidelines, as set forth in the GSA Records Maintenance and Disposition System handbooks OAD P 1820.2A and CIO P 1820.1, and authorized GSA records schedules.

System manager and address: Director, Federal Acquisition Institute, c/o Defense Acquisition University 9820, Belvoir Road, Fort Belvoir VA 22060-5565.

Notification procedure: An individual may obtain information on whether the system contains his or her record by e-mailing faikc@meridianksi.com, or sending the request to Director, Federal Acquisition Institute, c/o Defense Acquisition University, 9820 Belvoir Road, Fort Belvoir VA 22060-5565.

Record access procedures: Individuals may access their own records using their own password. Requests from individuals for access to their records also may be requested from FAI by writing to the above address.

Contesting record procedures: GSA rules for access to systems of records, for contesting the contents of systems of records, and for appealing initial determinations are published in the Federal Register, 41 CFR part 105-64.

Record source categories: Information is obtained from individuals who register with FAI Online University.

[FR Doc. E6-7146 Filed 5-9-06; 8:45 am]

BILLING CODE 6820-34-S